DEPARTMENT OF COMMERCE

National Oceanic and Atmospheric Administration

[RTID 0648-XC208]

Endangered and Threatened Species; Take of Anadromous Fish

AGENCY: National Marine Fisheries Service (NMFS), National Oceanic and Atmospheric Administration (NOAA), Department of Commerce.

ACTION: Notice of availability; of a proposed evaluation and pending determination for public comment.

SUMMARY: Notice is hereby given that NMFS has received a plan for a hatchery program rearing and releasing Chinook salmon in the Dungeness River basin. The plan describes the hatchery program operated by Washington Department of Fish and Wildlife (WDFW) in collaboration with Jamestown S'Klallam as a tribal co-manager. This document serves to notify the public of the availability and opportunity to comment on a Proposed Evaluation and Determination Documents (PEPD) on the proposed hatchery program.

DATES: Comments must be received at the appropriate address (see ADDRESSES) no later than 5 p.m. Pacific time on August 29, 2022. Comments received after this date may not be considered.

ADDRESSES: Comments may be submitted by email. The mailbox address for providing email comments is: Hatcheries.Public.Comment@noaa.gov. Include in the subject line of the email comment the following identifier: Comments on Dungeness River hatchery programs. The document available for public comment are available on the internet at https://www.fisheries.noaa.gov/action/dungeness-hatcheries-plans.

FOR FURTHER INFORMATION CONTACT: Morgan Robinson at (253) 307-2670 or by email at morgan.robinson@noaa.gov.

SUPPLEMENTARY INFORMATION:

ESA-Listed Species Covered in This Notice

• Puget Sound Chinook salmon (Oncorhynchus tshawytscha): threatened, naturally and artificially propagated;

• Puget Sound Steelhead (O. mykiss): threatened, naturally and artificially propagated;

Background

The term “take” is defined under the ESA to mean harass, harm, pursue, hunt, shoot, wound, kill, trap, capture, or collect, or to attempt to engage in any such conduct. The ESA prohibits the take of endangered salmonids and, pursuant to ESA section 4(d), ESA regulations can be extended to prohibit the take of threatened salmonids. However, NMFS may make exceptions to the take prohibitions for hatchery programs that are approved by NMFS under the limits on the prohibitions outlined in 50 CFR 223.203(b). The operators, WDFW collaborating with tribal co-manager Jamestown S'Klallam Tribe, have submitted an HGMP to NMFS pursuant to NMFS' limit six of the 4(d) Rule of the ESA for hatchery activities in the Dungeness River basin, Washington.

This hatchery program is designed to contribute to the survival and recovery of Dungeness River spring Chinook salmon. This hatchery programs is intended to contribute to fulfilling federal tribal trust responsibilities and treaty rights guaranteed through treaties and affirmed in U.S. v. Washington (1974) by enhancing future fishing opportunities for Chinook salmon. Included in this hatchery plan is research and monitoring activities to study the effect of this programs on the recovery of Puget Sound Chinook salmon and steelhead.

Authority: 16 U.S.C. 1531 et seq.; 16 U.S.C. 742a et seq.

Dated: July 25, 2022.
Angela Somma,
Chief, Endangered Species Conservation Division, Office of Protected Resources, National Marine Fisheries Service.

[FR Doc. 2022-16239 Filed 7-27-22; 8:45 am]

BILLING CODE 3510-22-P